NUCLEAR REGULATORY COMMISSION

[NRC-2010-0002]

Sunshine Federal Register Notice

AGENCY HOLDING THE MEETINGS: Nuclear Regulatory Commission.

DATES: Weeks of December 20, 27, 2010, January 3, 10, 17, 24, 2011.

PLACE: Commissioners' Conference Room, 11555 Rockville Pike, Rockville, Maryland.

STATUS: Public and Closed.

Week of December 20, 2010

Tuesday, December 21, 2010

9:30 a.m. Briefing on the Threat Environment Assessment (Closed—Ex. 1).

1 p.m. Briefing on Security Issues (Closed—Ex. 1).

Week of December 27, 2010—Tentative

There are no meetings scheduled for the week of December 27, 2010.

Week of January 3, 2011—Tentative

There are no meetings scheduled for the week of January 3, 2011.

Week of January 10, 2011—Tentative

Tuesday, January 11, 2011

9:30 a.m. Discussion of Management Issues (Closed—Ex. 2).

Week of January 17, 2011—Tentative

There are no meetings scheduled for the week of January 17, 2011.

Week of January 24, 2011—Tentative

Monday, January 24, 2011

1 p.m. Briefing on Safety Culture Policy Statement (Public Meeting),

(Contact: Diane Sieracki, 301-415-3297).

This meeting will be webcast live at the Web address— http://www.nrc.gov.

* * * * *

* The schedule for Commission meetings is subject to change on short notice. To verify the status of meetings, call (recording)—(301) 415-1292. Contact person for more information: Rochelle Bavol, (301) 415-1651.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify Angela Bolduc, Chief, Employee/Labor Relations and Work Life Branch, at 301-492-2230, TDD: 301-415-2100, or by e-mail at angela.bolduc@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: December 16, 2010.
Rochelle C. Bavol,
Policy Coordinator, Office of the Secretary.

[FR Doc. 2010-32133 Filed 12-17-10; 4:15 pm]

BILLING CODE 7590-01-P